DEPARTMENT OF ENERGY

Federal Energy Regulatory Commission

[Docket No. CP15-138-000]

Transcontinental Gas Pipe Line Company, LLC; Notice of Revised Schedule for Environmental Review of the Atlantic Sunrise Project

This notice identifies the Federal Energy Regulatory Commission (FERC or Commission) staff's revised schedule for the completion of the environmental impact statement (EIS) for Transcontinental Gas Pipe Line Company, LLC's (Transco) Atlantic Sunrise Project. The first notice of schedule, issued on March 9, 2016, identified October 21, 2016 as the EIS issuance date. Based on additional information filed by Transco, however, we intend to issue a draft General Conformity Determination for the Atlantic Sunrise Project with a 30-day comment period. Commission staff has therefore revised the schedule for issuance of the final EIS.

Schedule for Environmental Review

Issuance of Notice of Availability of the final EIS—December 30, 2016.

90-day Federal Authorization Decision Deadline—March 30, 2017.

If a schedule change becomes necessary, an additional notice will be provided so that the relevant agencies are kept informed of the project's progress.

Additional Information

In order to receive notification of the issuance of the EIS and to keep track of all formal issuances and submittals in specific dockets, the Commission offers a free service called eSubscription (https://www.ferc.gov/docs-filing/esubscription.asp).

Dated: October 20, 2016.
Kimberly D. Bose,
Secretary.

[FR Doc. 2016-25834 Filed 10-25-16; 8:45 am]

BILLING CODE 6717-01-P